DEPARTMENT OF THE INTERIOR

National Park Service

[NPS-WASO-NAGPRA-18959; PPWOCRADN0-PCU00RP14.R50000]

Notice of Intent To Repatriate Cultural Items: U.S. Department of Agriculture, Forest Service, Stanislaus National Forest, Sonora, CA

AGENCY: National Park Service, Interior.

ACTION: Notice.

SUMMARY: The U.S. Department of Agriculture, Forest Service, Stanislaus National Forest, in consultation with the appropriate Indian tribes or Native Hawaiian organizations, has determined that the cultural items listed in this notice meet the definition of unassociated funerary objects. Lineal descendants or representatives of any Indian tribe or Native Hawaiian organization not identified in this notice that wish to claim these cultural items should submit a written request to the Stanislaus National Forest. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Stanislaus National Forest at the address in this notice by September 30, 2015.

ADDRESSES: Jeanie Higgins, Forest Supervisor, Stanislaus National Forest, 19777 Greenley Road, Sonora, CA 95370, telephone (209) 536-3671, email jmhiggins@fs.fed.us.

SUPPLEMENTARY INFORMATION: Notice is here given in accordance with the Native American Graves Protection and Repatriation Act (NAGPRA), 25 U.S.C. 3005, of the intent to repatriate cultural items under the control of the Stanislaus National Forest, Sonora, CA, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1979 and 1981, 45 cultural items were removed from site CA-TUO-0979 in Calaveras County, CA. The site was used as a burial ground for certain groups of the Central Sierra Miwok as late as the early twentieth century. During monitoring between October 1979 and December 1981, evidence of site looting was documented by Stanislaus National Forest Heritage Program personnel. At that time, a number of cultural items were collected from the “backdirt” left over from looting activities. Human remains were noted in direct association with these cultural items, although no human remains were collected. The 45 unassociated funerary objects are 1 whole abalone shell, 6 abalone pendants, 14 whole Olivella shells (5 are drilled), 9 Olivella spire-lopped shell beads, 5 clam shell disk beads, 9 glass trade beads (4 simple white beads, 2 compound white beads, and 3 red-on-black Cornaline d'Allepo beads), and 1 metal button with a glass acorn decoration.

After consultation with the Tuolumne Band of Me-Wuk Indians of the Tuolumne Rancheria of California and Calaveras Band of Miwuk Indians, a non-federally recognized Indian group, a lineal descendant of the individual buried at the site, Dora Mata, was identified. Ms. Mata was no longer living and attempts to contact her son were unsuccessful. Rose Russell, a granddaughter of Dora Mata, contacted the Stanislaus National Forest and made a request for repatriation of the unassociated funerary objects. The Stanislaus National Forest determined Rose Russell is a lineal descendant of the individual buried at the site from which the unassociated funerary objects were removed.

Determinations Made by the Stanislaus National Forest

Officials of the Stanislaus National Forest have determined that:

• Pursuant to 25 U.S.C. 3001(3)(B), the 45 cultural items described above are reasonably believed to have been placed with or near individual human remains at the time of death or later as part of the death rite or ceremony and are believed, by a preponderance of the evidence, to have been removed from a specific burial site of a Native American individual.

• Pursuant to 25 U.S.C. 3005(a)(5)(A), Rose Russell is the direct lineal descendant of the individual associated with the cultural items.

Additional Requestors and Disposition

Lineal descendants or representatives of any Indian tribe or Native Hawaiian organization not identified in this notice that wish to claim these cultural items should submit a written request with information in support of the claim to Jeanie Higgins, Forest Supervisor, Stanislaus National Forest, 19777 Greenley Road, Sonora, CA 95370, telephone (209) 536-3671, email jmhiggins@fs.fed.us, by September 30, 2015. After that date, if no additional claimants have come forward, transfer of control of the unassociated funerary objects to Rose Russell may proceed.

The Stanislaus National Forest is responsible for notifying the California Valley Miwok Tribe, California; Chicken Ranch Rancheria of Me-Wuk Indians of California; and Tuolumne Band of Me-Wuk Indians of the Tuolumne Rancheria of California that this notice has been published.

Dated: July 31, 2015.
Melanie O'Brien,
Manager, National NAGPRA Program.

[FR Doc. 2015-21501 Filed 8-28-15; 8:45 am]

BILLING CODE 4312-50-P